DEPARTMENT OF TRANSPORTATION

Federal Aviation Administration

14 CFR Part 39

[Docket No. FAA-2008-0039; Directorate Identifier 2006-SW-13-AD; Amendment 39-15596; AD 2008-14-01]

RIN 2120-AA64

Airworthiness Directives; Bell Helicopter Textron Canada Model 222, 222B, 222U, 230 and 430 Helicopters

AGENCY: Federal Aviation Administration, DOT.

ACTION: Final rule.

SUMMARY: This amendment adopts a new airworthiness directive (AD) for Bell Helicopter Textron Canada (BHTC) Model 222, 222B, 222U, 230 and 430 helicopters that requires rewiring and testing the fuel valve switch on each engine and testing the ignitor system. This amendment is prompted by an in-flight incident in which a fuel valve switch failed, causing the fuel valve to inadvertently close. The actions specified by this AD are intended to prevent interruption of the fuel supply caused by failure of the fuel switch, which could result in loss of engine power and subsequent loss of control of the helicopter.

DATES: Effective August 14, 2008.

The incorporation by reference of certain publications listed in the regulations is approved by the Director of the Federal Register as of August 14, 2008.

ADDRESSES: You may get the service information identified in this AD from Bell Helicopter Textron Canada, 12,800 Rue de l'Avenir, Mirabel, Quebec J7J1R4, telephone (450) 437-2862 or (800) 363-8023, fax (450) 433-0272.

Examining the Docket: You may examine the docket that contains this AD, any comments, and other information on the Internet at http://www.regulations.gov, or at the Docket Operations office, West Building Ground Floor, Room W12-140, 1200 New Jersey Avenue, SE., Washington, DC.

FOR FURTHER INFORMATION CONTACT: George Schwab, Aviation Safety Engineer, FAA, Rotorcraft Directorate, Safety Management Group, Fort Worth, Texas 76193-0110, telephone (817) 222-5114, fax (817) 222-5961.

SUPPLEMENTARY INFORMATION: A proposal to amend 14 CFR part 39 to include an AD for the specified model helicopters was published in the Federal Register on January 23, 2008 (73 FR 3889). That action proposed to require, within 50 hours time-in-service (TIS), rewiring the switches that control the operation of the No. 1 and No. 2 engines' fuel valves, and testing the switches and the ignitor system.

Transport Canada, the airworthiness authority for Canada, notified the FAA that an unsafe condition may exist on BHTC Model 222, 222B, 222U, 230 and 430 helicopters. Transport Canada advises of an investigation into an incident involving a BHTC Model 222 helicopter, in which the fuel shut-off switch, part number (P/N) 10648BH1-1, failed during flight causing the fuel valve to close and the engine to shut down. Review of the Service Difficulty Report database identified two other incidents of switch failure.

Bell Helicopter Textron has issued the following technical bulletins, all dated June 11, 2003, which specify rewiring the fuel valve switch:

Technical bulletin | Helicopter models affected
No. 222-03-171 | Model 222 and 222B helicopters.
No. 222U-03-96 | Model 222U helicopters.
No. 230-03-35 | Model 230 helicopters.
No. 430-03-33 | Model 430 helicopters.

Transport Canada classified these technical bulletins as mandatory and issued AD No. CF-2006-03, dated February 28, 2006, to ensure the continued airworthiness of these helicopters in Canada. That AD requires compliance no later than May 3, 2006. This AD requires compliance within 50 hours TIS.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed.

The FAA estimates that this AD will affect 165 helicopters of U.S. registry, and the required actions will take approximately four work hours per helicopter to rewire the 2 fuel valve switches, and test those switches and the ignitor system, at an average labor rate of $80 per work hour. Based on these figures, we estimate the total cost impact of the AD on U.S. operators to be $52,800 ($320 per helicopter).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2008-14-01 Bell Helicopter Textron Canada: Amendment 39-15596. Docket No. FAA-2008-0039; Directorate Identifier 2006-SW-13-AD.

Applicability: The following model helicopters, certificated in any category:

Model No. | Serial Nos.
222 | 47006 through 47089.
222B | 47131 through 47156.
222U | 47501 through 47574.
230 | 23001 through 23038.
430 | 49001 through 49101.

Compliance: Required within 50 hours time-in-service, unless accomplished previously.

To prevent interruption of the fuel supply caused by failure of the fuel switch, which could result in loss of engine power and subsequent loss of control of the helicopter, accomplish the following:

(a) Rewire the No. 1 and No. 2 engines' fuel valve switch, part number 10648BH1-1, and test the fuel valve switches and the ignitor system, in accordance with the Accomplishment Instructions in Bell Helicopter Textron Technical Bulletin (TB) No. 222-03-171, Part 1, applicable to Model 222 helicopters, serial number (S/N) 47006-47038, and Part 2, applicable to Model 222 helicopters, S/N 47039-47089, and Model 222B helicopters, S/N 47131-47156; TB No. 222U-03-96, applicable to Model 222U helicopters; TB No. 230-03-35, applicable to Model 230 helicopters; and TB No. 430-03-33, applicable to Model 430 helicopters. All of the technical bulletins are dated June 11, 2003.

(b) To request a different method of compliance or a different compliance time for this AD, follow the procedures in 14 CFR 39.19. Contact the Manager, Safety Management Group, ATTN: George Schwab, Aviation Safety Engineer, Rotorcraft Directorate, FAA, Fort Worth, Texas 76193-0110, telephone (817) 222-5114, fax (817) 222-5961, for information about previously approved alternative methods of compliance.

(c) The rewiring and testing shall be done in accordance with the specified portions of Bell Helicopter Textron Technical Bulletin No. 222-03-171, No. 222U-03-96, No. 230-03-35, and No. 430-03-33, all dated June 11, 2003. The Director of the Federal Register approved this incorporation by reference in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(d) This amendment becomes effective on August 14, 2008.

Note: The subject of this AD is addressed in Transport Canada (Canada) AD CF-2006-03, dated February 28, 2006.

Issued in Fort Worth, Texas, on June 12, 2008.
Lance T. Gant,
Acting Manager, Rotorcraft Directorate, Aircraft Certification Service.

[FR Doc. E8-14718 Filed 7-9-08; 8:45 am]

BILLING CODE 4910-13-P